DEPARTMENT OF TRANSPORTATION

Federal Railroad Administration

[Docket No. FRA-2024-0083]

Request for Information on Collaboration and Data Sharing for Railroad Operations Analysis

AGENCY: Federal Railroad Administration (FRA), Department of Transportation (DOT).

ACTION: Request for information (RFI).

SUMMARY: On November 15, 2021, President Biden signed into law the Infrastructure Investment and Jobs Act, also known as the Bipartisan Infrastructure Law (BIL). The BIL provides historic appropriations for railroad transportation grant programs administered by the Federal Railroad Administration (FRA) and authorizes new programs to enhance rail safety and to repair, restore, improve, and expand the nation's rail network. Among those new programs is the Corridor Identification and Development Program (CID Program), which creates a new framework to facilitate the development of new, enhanced, and restored intercity passenger rail corridors throughout the country. Railroad Operations Analysis (OA) uses data to assess changes to railroad operations and/or capital project improvements to railroad infrastructure and is frequently part of the planning process for rail projects. OA involves the collaboration of various rail stakeholders and the sharing of data and information. As a result of the CID Program, there is an increased need for FRA and rail stakeholders to participate in OA and evaluate OA results. FRA finds value in conducting OA in a collaborative manner to promote increased confidence in the OA among stakeholders and support Federal FRA investments in infrastructure projects. In this RFI, FRA seeks public comments on the challenges involved in OA, how FRA may address those challenges, and how FRA may improve OA for Federally funded railroad projects.

DATES: Written comments on this RFI must be received on or before September 19, 2024. FRA may consider comments filed after this date to the extent practicable.

ADDRESSES: Comments should refer to docket number FRA-2024-0083 and be submitted by at https://www.regulations.gov. Search by using the docket number and follow the instructions for submitting comments.

Instructions: All submissions must include the agency name and docket number for this RFI.

Note: All comments received, including any personal information, will be posted without change to the docket and will be accessible to the public at https://www.regulations.gov. You should not include information in your comment that you do not want to be made public. Input submitted online via www.regulations.gov is not immediately posted to the site. It may take several business days before your submission is posted.

FOR FURTHER INFORMATION CONTACT: For further information concerning this notice, please contact the FRA Office of Railroad Development staff via email at PAXRAILDEV@dot.gov. If additional assistance is needed, you may contact Bryan Bertoli, Community Planner, at email bryan.bertoli@dot.gov or telephone: 405-406-5575; Eric Pihl, Transportation Industry Analyst, at email: eric.pihl@dot.gov or telephone: 303-594-3559; in FRA's Office of Railroad Development.

SUPPLEMENTARY INFORMATION:

Background

For purposes of this RFI, Railroad OA means the analytical process for identifying and testing means for achieving operational objectives based on assumptions regarding, and hypothetical variations to, the infrastructure, characteristics of train movements, and the conditions under which those train movements operate. Operational objectives for an OA may include, but are not limited to, the introduction of a new rail service; the expansion of an existing rail service (e.g., the operation of additional service frequencies or trains); changes in train characteristics (e.g., length, horsepower per ton, etc.); changes to stops made by trains en route (e.g., at stations, shipper facilities, or yards); and improvements to the operational performance of an existing service (e.g., through a reduction in travel times and/or improvements to operational reliability).

FRA involvement in OA may include funding, overseeing, and participating in project planning and project development studies for the improvement of railroad service, particularly intercity passenger rail service, throughout the country, and funding the implementation of the railroad capital investments identified through those studies.

OA, when conducted for projects in which FRA is involved, frequently involves the collaboration of different participants with varying roles, interests, and priorities.

OA participants include FRA, Project Sponsors,¹ owners and operators of railroad facilities, and consultants acting on behalf of these entities. There are also individuals and organizations that may have an interest in the OA results for federally-funded projects but do not directly participate in the development of OA.

¹ “Project Sponsor means the entity responsible for implementing a capital project that may also be an applicant seeking or a grantee receiving federal financial assistance.” FRA Guidance on Development and Implementation of Railroad Capital Projects (Jan. 11, 2023) at page 3, available at https://railroads.dot.gov/elibrary/fra-guidance-development-and-implementation-railroad-capital-project.

OA is an important means for assessing options for capital improvements to railroad facilities (e.g., main line track and signal improvements, station configuration, etc.), as well as potential changes to railroad operations. These alterations to railroad capital improvements and/or operations can represent a major portion of the overall cost of a railroad development project. These alterations may also contribute to a project's environmental impacts, which are initially considered during the project planning stage and continue to be assessed through the National Environmental Policy Act (NEPA) process. For example, project planning elements specifically include environmental resource consideration and resilience planning.² OA results paired with environmental resource consideration may inform which preliminary project alternatives are identified and then developed based on the project's purpose and need. After the completion of the project planning stage, preliminary project alternatives are advanced into project development stage activities, which may include environmental review required under NEPA.

² See id. at 6.

Generally, the Project Sponsor, or a consultant acting on behalf of the Project Sponsor, will use tools, such as train performance calculators and railroad operations simulation software, to generate OA outputs. Software used for operations modeling requires the integration of existing and proposed conditions relevant to the analysis, referred to as input data. Input data includes train movement information and infrastructure information. Train movement information reflects physical and operational characteristics of trains that have a direct effect on their performance and includes but is not limited to: number of trains operating over the subject territory broken down by general train type; average operating characteristics of trains by train type (e.g., length, horsepower per ton, etc.); specific operating timetables for scheduled services (e.g., including passenger and employee timetables); significant time-specific requirements for unscheduled services; detailed historical movement information; and the recommended Compound Annual Growth Rate by train type.

Infrastructure information is data that captures the physical characteristics of the geographic territory being analyzed and is necessary for OA. Engineering track charts are referenced as these typically include information such as signals, platforms, bridges, and grade crossings. Infrastructure information collected for OA includes documentation of other relevant transportation projects under development or in the process of implementation within the study area. Significantly, the infrastructure input data used for OA will directly determine how trains can operate over the subject territory.

Based on a specific set of train movement and infrastructure inputs for a given case, OA outputs can capture the way in which trains move over the subject territory and include train-specific metrics that allow for evaluation of operational performance and reliability. OA output data includes but is not limited to: train performance calculator outputs; time-distance diagrams; tabular results of operational performance metrics with description of variables calibrated for the OA (e.g., locomotive performance); proposed infrastructure improvements under analyzed scenarios, including existing, no-action, and action scenarios; and native OA software files of both inputs and outputs.

Access to the underlying information supporting an OA (i.e., input and output data) is essential for understanding the OA model itself and the results it produces. Moreover, access to OA data allows stakeholders, including FRA, to understand the nature of existing and proposed future railroad operations and to better assess the feasibility of Federally funded transportation investments and projects. Access to OA data also supports a more collaborative OA approach, allows stakeholders to have greater confidence in the OA model and output, and may reduce disputes related to OA data that can increase the time and costs for a railroad project.

Information Requested

FRA seeks to ensure that the creative and problem-solving process at the core of OA is as effective and collaborative as possible. As such, with the questions below, FRA is requesting public comment to gain a better understanding of the potential challenges involved in the development of OA and the review of OA results to assess what improvements can be made for Federally funded railroad projects. Respondents to this RFI are encouraged to consider the full range of railroad development efforts in which FRA may be involved or otherwise support, including, but not limited to intercity passenger rail development projects. FRA requests that responses include, as applicable, a reference to the numbered questions. Respondents are also encouraged to address in their responses any topics they believe to be relevant and are not limited to addressing the questions listed below.

1. What challenges and issues have you experienced with the development of OA?

2. What challenges and issues have you experienced with the review of OA results for Federally funded projects?

3. What type of assistance from FRA would be beneficial for the development of OA?

4. Have you experienced any challenges or issues that limit access to OA data? Please explain.

5. How do you suggest FRA encourage data sharing for OA?

6. What roles and responsibilities should participants undertake to promote a collaborative OA?

7. What factors contribute to the success of a collaborative OA?

8. In the absence of access to all data inputs required for an OA, are there alternative methods or means to obtain sufficient information to conduct an OA or review OA results?

9. Please share any other additional feedback or comments on OA and/or data sharing.

FRA will review responses to this RFI to better understand challenges involved in OA by responsive parties. FRA will determine how and whether FRA may address those challenges, and what further steps FRA should take with respect to OA.

Privacy Act Statement

FRA notes that anyone is able to search (at https://www.regulations.gov) the electronic form of all filings received into any of DOT's dockets by the name of the individual submitting the filing (or signing the filing, if submitted on behalf of an association, business, labor union, or other organization). You may review DOT's complete Privacy Act Statement published in the Federal Register on April 11, 2000 (65 FR 19476), or you may view the privacy notice of regulations.gov at https://www.regulations.gov/privacy-notice.

Issued in Washington, DC.
Paul Nissenbaum,
Associate Administrator, Office of Railroad Development.

[FR Doc. 2024-17185 Filed 8-2-24; 8:45 am]

BILLING CODE 4910-06-P